NATIONAL CREDIT UNION ADMINISTRATION

Notice of Meeting

Time and Date: 10 a.m., Thursday, April 14, 2005.

Place: Board Room, 7th Floor, Room 7047, 1775 Duke Street, Alexandria, VA 22314-3428.

Status: Open.

Matters To Be Considered: 1. Quarterly Insurance Fund Report.

2. Proposed Rule: Part 723 of NCUA's Rules and Regulations, Member Business Loans.

3. Final Rule and Guidance: Part 748 of NCUA's Rules and Regulations, Security Program and Appendix B, Guidance on Response Programs.

Recess: 11:15 a.m.

Time and Date: 11:30 a.m., Thursday, April 14, 2005.

Place: Board Room, 7th Floor, Room 7047, 1775 Duke Street, Alexandria, VA 22314-3428.

Status: Closed.

Matters To Be Considered: 1. One (1) Personnel Matter. Closed pursuant to exemptions (2) and (6).

FOR FURTHER INFORMATION CONTACT: Mary Rupp, Secretary of the Board, Telephone: 703-518-6304.

Mary Rupp,
Secretary of the Board.

[FR Doc. 05-7354 Filed 4-7-05; 3:19 pm]

BILLING CODE 7535-01-M